DEPARTMENT OF STATE

[Public Notice 8386]

Advisory Committee on the Secretary of State's Strategic Dialogue With Civil Society; Notice of the Renewal of an Advisory Committee

This is notice of the renewal of the Secretary's Foreign Affairs Policy Board. The Board serves the United States Government in a solely advisory capacity concerning major issues and problems in U.S. foreign policy, including performance of the following functions: Assess global threats and opportunities; identify trends that implicate core national security interests; provide recommendations with respect to tools and capacities of the civilian foreign affairs agencies; define priorities and strategic frameworks for U.S. foreign policy; and any other research and analysis of topics raised by the Secretary of State, the Deputy Secretaries, or the Director of Policy Planning.

The Board consults with other interested parties, agencies, and interagency committees and groups of the United States Government, foreign governments, and with national and international private sector organizations and individuals, as the Department of State and the Board decide are necessary or desirable.

The Board, comprised of up to twenty-five distinguished citizens from the private sector, nongovernmental organizations, think tanks and academia, provides the Secretary with a fresh perspective and insight apart from, and independent of, the State Department organization. It does not perform the function of any existing Department staff or committee.

For further information, please contact the Board's Designated Federal Officer, Andrew McCracken, at FAPB@state.gov.

Dated: July 11, 2013.
David McKean,
Director, Office of Policy Planning, U.S. Department of State.

[FR Doc. 2013-17542 Filed 7-19-13; 8:45 am]

BILLING CODE 4710-10-P